DEPARTMENT OF THE TREASURY

Internal Revenue Service

26 CFR Part 1

[TD 9458]

RIN 1545-BI72

Modification to Consolidated Return Regulation Permitting an Election To Treat a Liquidation of a Target, Followed by a Recontribution to a New Target, as a Cross-Chain Reorganization

AGENCY: Internal Revenue Service (IRS), Treasury.

ACTION: Correcting amendment.

Summary: This document contains a correction to temporary regulations (TD 9458), which were published in the Federal Register on Friday, September 4, 2009, relating to modification to consolidated return regulation permitting an election to treat a liquidation of a target, followed by a recontribution to a new reorganization.

DATES: The correction is effective January 13, 2010, and is applicable beginning September 4, 2009.

FOR FURTHER INFORMATION CONTACT: Guy Traynor at (202) 622-3693 (not a toll-free number).

SUPPLEMENTARY INFORMATION:

Background

The temporary regulation that is the subject to this correction is under section 1502 of the Internal Revenue Code.

Need for Correction

As published September 4, 2009 (74 FR 45757), temporary regulations (TD 9458), contains an error which may prove to be misleading and is in need of clarification.

List of Subjects in 26 CFR part 1

Income taxes, Reporting and recordkeeping requirements.

Correction of Publication

Accordingly, 26 CFR part 1 is corrected by making the following correcting amendment.

PART 1—INCOME TAXES

Paragraph 1. The authority for part 1 continues to read in part as follows:

Authority: 26 U.S.C. 7805 * * *

Par. 2. Paragraph (f)(5)(ii)(G) is added following paragraph (f)(5)(ii)(F)(3), to read as follows:

§ 1.1502-13T Intercompany transactions (temporary).

* * * * *

(f) * * *

(5) * * *

(ii) * * *

(G) Expiration date. Paragraphs (f)(5)(ii)(B), (B)(1), (B)(2) and (F)(1), (2), and (3) of this section will expire on September 3, 2012.

* * * * *

Guy R. Traynor,
Federal Register Liaison, Publications & Regulations Branch, Legal Processing Division, Associate Chief Counsel (Procedure & Administration).

[FR Doc. 2010-416 Filed 1-12-10; 8:45 am]

BILLING CODE 4830-01-P